AGENCY FOR INTERNATIONAL DEVELOPMENT

Privacy Act of 1974, System of Records

AGENCY: United States Agency for International Development.

ACTION: Altered System of Records Notice.

SUMMARY: The United States Agency for International Development (USAID) is issuing public notice of its intent to alter its system of records maintained in accordance with the Privacy Act of 1974, (5 U.S.C. 552a), as amended, entitled “AID-8 Personnel Security and Suitability Investigations Records.” USAID is updating this system of record for a non-significant change, to reflect the address change for the location of the system and to change the Point of Contact.

DATES: The 30-day public comment period and 10-day additional OMB and Congress review period is not required for non-significant alterations.

ADDRESSES: You may submit comments:

Paper Comments

• Fax: (703) 666-1466.

• Mail: Chief Privacy Officer, United States Agency for International Development, 2733 Crystal Drive, 11th Floor, Arlington, VA 22202.

Electronic Comments

• Federal eRulemaking Portal: http://www.regulations.gov.

• Email: privacy@usaid.gov.

FOR FURTHER INFORMATION CONTACT: For general questions please contact, Lorrie Meehan, USAID: Personnel Security Division, (202) 712-0990. For privacy-related issues, please contact Meredith Snee, Deputy CPO (703) 666-1247.

SUPPLEMENTARY INFORMATION: USAID is undertaking a review of all its system of records notices to ensure that it maintains complete, accurate, timely, and relevant records. As a result of this effort, USAID is proposing to revise its “Personnel Security and Suitability Investigations Records” system of records notice.

The “Personal Security and Suitability Investigations Records” are maintained by the USAID Office of Security (SEC). SEC has been charged with providing security services to protect USAID personnel and facilities, safeguarding national security information, and promoting and preserving personal integrity. SEC receives investigative authority from the Director of National Intelligence and the Office of Personnel Management to conduct personnel security investigations for USAID and all other Federal Agencies/Departments permitted under the delegation. The revision updates points of contact and address information, and updates the system locations.

Dated: March 15, 2013.
William Morgan,
Chief Information Security Officer—Chief Privacy Officer.

USAID-008

System name:

Personnel Security and Suitability Investigations Records.

Security classification:

Secret.

System location:

Records covered by this system are maintained at the following locations: (Paper) USAID Office of Security, 1300 Pennsylvania Avenue, Washington, DC 20523; (Electronic copies) Terremark NAP of the Americas, 2 S Biscayne Blvd., Miami FL 33131.

Categories of individuals covered by the system:

Categories of individuals maintained in this system are: current and former USAID employees; contractor personnel (Personal Service Contractors and Institutional Contractors); applicants for employment; persons and entities performing business with USAID to include consultants, volunteers, grantees and recipients; individuals employed from other Federal Agencies through a detail, Participating Agency Service Agreement, Resources Support Services Agreement, or the Interagency Personnel Act; individuals working at USAID through government agreements (second agreement); paid and unpaid interns; and visitors requiring access to USAID facilities; and the U.S. Citizen and/or non-U.S. Citizen spouse, intended spouse, family members, and/or cohabitants of the above listed individuals.

Categories of records in the system:

Categories of records maintained in this system are: name; address; date of birth; social security number (or other identifying number); citizenship status; information regarding an individual's character, conduct and behavior in the community where they presently live and/or previously lived; arrests and/or convictions; medical records; educational institutions attended; employment records; reports from interviews and other inquiries; electronic communication cables; facility access authorizations/restrictions; photographs, fingerprints; financial records including credit reports; previous clearances levels granted; resulting clearance levels; documentation of release of security files; request for special access; records of infractions; and records of facility accesses and credentials issued.

Authority for maintenance of the system:

Executive Order 10450: Security requirements for Government Employment; Homeland Security Presidential Directive 12 (HSPD-12): Policy for a Common Identification Standard for Federal Employees and Contractors; Executive Order 12968: Access to Classified Information,; Executive Order 12333: United States Intelligence Activities; Executive Order 13381: Strengthening Processes Relating to Determining Eligibility for Access to Classified National Security Information; Executive Order 13467: Reforming Processes Related to Suitability for Government Employment, Fitness for Contractor Employees, and Eligibility for Access to Classified National Security Information; Executive Order 13488: Granting Reciprocity on Excepted Service and Federal Contractor Employee Fitness and Reinvestigating Individuals in Positions of Public Trust; and the Intelligence Reform and Terrorism Prevention Act of 2004 (Public Law 108-458).

Purpose(s):

The Office of Security gathers information in order to create investigative records, which are used for processing personal security background investigations to determine eligibility to be awarded a federal security clearance, suitability or fitness determination for federal employment, access to federally owned/controlled facilities and access to federally owned/controlled information systems.

Routine use of records maintained in the system, including categories of users and the purposes of such uses:

In addition to USAID's Statement of General Routine Uses, the Office of Security may disclose information in this system as follows:

(1) To consumer reporting agencies in order to obtain consumer credit reports,

(2) To federal, international, state, and local law enforcement agencies, U.S. Government Agencies, courts, the Department of State, Foreign Governments, to the extent necessary to further the purposes of an investigation,

(3) Results of the investigation may be disclosed to the Department of State or other Federal Agencies for the purposes of granting physical and/or logical access to federally owned or controlled facilities and/or information systems in accordance with the requirements set forth in HSPD-12.

Policies and practices for storing, retrieving, accessing, retaining, and disposing of records in the system:

Storage:

Paper copies of information are maintained in file folders and secured using locked cabinets and safes. Electronic copies of information are secured using password protection and role-based protocols.

Retrievability:

Records are retrievable by last name, social security number, and/or USAID assigned case number or other unique identifier attributed to the individual.

Safeguards:

Records are kept within the Office of Security secured space. Access to this space is controlled by electronic card readers, office personnel to control access, visitor escorts policy and supplemented by an armed response force. Administrative safeguards of records are provided through the use of internal Standard Operating Procedures and routine appraisal reviews of the personnel security and suitability program by the Director of National Intelligence and the Office of Personnel Management.

Retention and disposal:

Records are retained using the approved National Archives Records Administration, Schedule 18-Security and Protective Services Records.

System manager and address:

Director, USAID: Office of Security, RRB, Suite 2.06-A, 1300 Pennsylvania Ave. NW., Washington, DC 20523.

Notification procedures:

Records in this system are exempt from notification access, and amendment procedures in accordance with subsection (k) (1) and (5) of the 5 U.S.C. 552a, and 22CFR 215.13 of 14. Individuals wishing to inquire whether this system of records contains information about themselves should submit their inquires in writing to the USAID Chief Privacy Officer, 2733 Crystal Drive, 11th Floor, Arlington, VA 22202.

The request must be in writing and include the requestor's full name, date of birth, social security number, and current address. In addition, requestors must also reasonably specify the record contents being sought.

Record access procedures:

See “Notification Procedures.”

Contesting record procedures:

An individual requesting amendment of a record maintained on himself or herself must identify the information to be changed and the corrective action sought. Requests must follow the “Notification Procedures” above.

Record source categories:

Information in this system is obtained from the individual on whom it applies; independent sources such as other government agencies, state/local government; law enforcement agencies; credit bureaus; medical providers; educational institutions; private organizations; information provided by personal references; and through source interviews.

Exemptions claimed for the system:

Under the specific authority provided by subsection (k) (1), (3), and (5) of 5 U.S.C. 552a, USAID has promulgated rules specified in 22 CFR 215.14, that exempts this system from notice, access, and amendment requirements of 5 U.S.C. 552a, subsections (c) (3), (d); (e) (1); (e) (4); (G); (H); (I); and (f). The reasons for these exemptions are to maintain confidentiality of sources, National Security, and to prevent frustration of the federal investigative process.

Meredith Snee,
Privacy Analyst.

[FR Doc. 2013-09105 Filed 4-30-13; 8:45 am]

BILLING CODE P